DEPARTMENT OF ENERGY

Wind and Water Power Technologies Office: Wind Energy Bat and Eagle Impact Minimization Technologies and Field Testing Opportunities

AGENCY: Office of Energy Efficiency and Renewable Energy, Department of Energy.

ACTION: Notice.

SUMMARY: The U.S. Department of Energy's Office of Energy Efficiency and Renewable Energy (EERE) invites public comment on its Request for Information (RFI) regarding a potential funding opportunity to advance the readiness of bat and eagle impact minimization technologies through investments in technology development and field testing.

DATES: Comments regarding the RFI must be received on or before July 25, 2014.

ADDRESSES: The complete RFI document is located at https://eere-exchange.energy.gov/.

FOR FURTHER INFORMATION CONTACT: Responses to the RFI and questions should be sent via email or email attachment to WindMitigationRFI@ee.doe.gov. Further guidance can be found in the RFI document posted on EERE Exchange.

SUPPLEMENTARY INFORMATION: The mission of the Wind and Water Power Technology Office of DOE's Office of Energy Efficiency and Renewable Energy is to accelerate widespread U.S. deployment of clean, affordable, and reliable wind power to promote energy security, economic growth, and environmental quality. Pursuant to this mission, the Office funds research and development to address market barriers that affect the deployment of wind energy, including the effects of wind on wildlife. In permitting wind facilities and complying with state and federal laws protecting wildlife, such as the Endangered Species Act, Migratory Bird Treaty Act, and Bald and Golden Eagle Protection Act, developers and operators of wind energy facilities often must take measures to mitigate the potential impacts of their facilities on protected species.

While guidelines exist for siting wind facilities in the landscape and wind turbines within a facility to avoid impacts to wildlife, technologies to minimize impacts at operational facilities are for most species either in early stages of development or simply do not exist. Research in this area is on-going, but significant advancements are needed to address the siting and permitting challenges currently faced by the wind industry.

In its RFI, EERE requests comments, information, and recommendations on the current state of wildlife impact minimization technologies, conditions under which technology vendors or developers would consider participating in a demonstration and validation campaign, and the conditions under which wind farm owner/operators would consider participating in a campaign to demonstrate, field-test, and validate such technologies. Additionally, EERE seeks input on a proposed framework for funding the advancement of wildlife impact minimization technologies aimed at reducing impacts to bats, eagles and other wildlife of concern, and on how to prioritize funding for research within this framework. The RFI is available at: https://eere-exchange.energy.gov/.

Issued in Washington, DC, on 24 June 2014.
Jose Zayas,
Director, Wind and Water Power Technologies Office, Energy Efficiency and Renewable Energy.

[FR Doc. 2014-15258 Filed 6-27-14; 8:45 am]

BILLING CODE 6450-01-P